OFFICE OF THE UNITED STATES TRADE REPRESENTATIVE

Request for Comments Concerning Compliance With Telecommunications Trade Agreements

AGENCY: Office of the United States Trade Representative.

ACTION: Notice of request for public comment and reply comment.

SUMMARY: Pursuant to section 1377 of the Omnibus Trade and Competitiveness Act of 1988 (19 U.S.C. 3106) (“section 1377”), the Office of the United States Trade Representative (“USTR”) is reviewing, and requests comments on: The operation and effectiveness of and the implementation of and compliance with the World Trade Organization (“WTO”) Basic Telecommunications Agreement; other WTO agreements affecting market opportunities for telecommunications products and services of the United States; the telecommunications provisions of the North American Free Trade Agreement (“NAFTA”); and, other telecommunications trade agreements with the Asia Pacific Economic Cooperation (“APEC”) members, the European Union (“EU”), the Inter-American Telecommunications Commission (“CITEL”), Japan, Korea, Mexico and Taiwan. The USTR will conclude the review on March 31, 2003.

DATES: Comments are due by noon on January 3, 2003, and Reply Comments are due by noon on January 24, 2003.

ADDRESSES: Comments should be submitted to Rhonda Schnare, Office of General Counsel, Attn: Section 1377 Comments, Office of the United States Trade Representative, 600 17th Street, NW., Washington, DC 20508. As explained below, in order to ensure the most timely and expeditious receipt and consideration of comments and reply comments, USTR has arranged to accept submissions in electronic format (e-mail). Comments should be submitted electronically to fr0056@ustr.gov.

FOR FURTHER INFORMATION CONTACT: Kenneth Schagrin, Office of Industry and Telecommunications (202) 395-5663; or Rhonda Schnare, Office of the General Counsel (202) 395-3582.

SUPPLEMENTARY INFORMATION: Section 1377 requires the USTR to review annually the operation and effectiveness of all U.S. trade agreements regarding telecommunications products and services of the United States that are in force with respect to the United States. The purpose of the review is to determine whether any act, policy, or practice of a country that has entered into a telecommunications trade agreement with the United States is inconsistent with the terms of such agreement, or otherwise denies to U.S. firms, within the context of the terms of such agreements, mutually advantageous market opportunities. For the current review, the USTR seeks comments on:

(1) Whether any WTO member is acting in a manner that is inconsistent with its commitments under the WTO Basic Telecommunications Agreement or with other WTO obligations, e.g., the WTO General Agreement on Trade in Services (“GATS”), including the Annex on Telecommunications and the Reference Paper on Pro-Competitive Regulatory Principles, that affect market opportunities for U.S. telecommunications products and services;

(2) Whether Canada or Mexico has failed to comply with their telecommunications commitments under NAFTA;

(3) Whether APEC or CITEL members, the EU, Japan, Korea, Mexico or Taiwan have failed to comply with their commitments under additional telecommunications agreements with the United States.¹

¹ Japan: The 1999 Nippon Telegraph and Telephone (NTT) agreement; the 1994 U.S.-Japan Public Sector Procurement Agreement on Telecommunications Products and Services; and, additional telecommunications trade agreements with Japan, including a series of agreements on: International value-added network services (IVANS) (1990-91); open government procurement of all satellites, except for government research and development satellites (1990); network channel terminating equipment (NCTE) (1990); and cellular and third-party radio systems (1989) and cellular radio systems (1994).

Korea: Agreements regarding protection of intellectual property rights (“IPR”) (1996), type approval of telecommunications equipment (1992/1996), transparent standard-setting processes, (1992/1997) and non-discriminatory access to Korea Telecommunications' procurement of telecommunications products (1992/1996).

Mexico: The 1997 understanding regarding test data acceptance agreements between product safety testing laboratories.

Mutual Recognition Agreements For Conformity Assessment of Telecommunications Equipment: Mutual Recognition Agreements (“MRAs”) regarding telecommunications equipment trade with the European Union (1997), APEC countries (1998), and CITEL countries (1999).

Taiwan: The February 1998 agreement on interconnection pricing for provision of wireless services in Taiwan; and, the July 1996 agreement on the licensing and provision of wireless services through the establishment of a competitive, transparent and fair wireless market in Taiwan. USTR also seeks comments on telecommunications commitments made by Taiwan to the United States in October 1999 and February 1998 as part of its accession to the WTO.

(4) Whether there remains outstanding issues from previous Section 1377 reviews on those countries or issues previously cited. Last year's review concluded that it would focus attention on the following practices as a matter of priority: (1) Mobile wireless termination rates in the European Union (EU) Member States and Japan, (2) provisioning and pricing of leased telecom lines in EU Member States and Switzerland, and (3) interconnection and other competitive concerns in Mexico. USTR continues to closely monitor other telecommunications trade practices identified in the following countries: Australia, Brazil, China, Colombia, India, Japan, Peru, and South Africa.

See 63 FR 1140 (January 8, 1998) for further information concerning the agreements listed below and USTR Press Release 02-XX available at http://www.ustr.gov, for the results of the 2001-2002 section 1377 review concerning these agreements.

Public Comment and Reply Comment: Requirements for Submissions

USTR requests comments on: The operation and effectiveness of—including implementation of and compliance with—the WTO Basic Telecommunications Agreement; other WTO agreements affecting market opportunities for telecommunications products and services of the United States; the NAFTA; and other telecommunications trade agreements with APEC members, CITEL members, the EU, Japan, Korea, Mexico and Taiwan. All comments must be in English, identify on the first page of the comments the telecommunications trade agreement(s) discussed therein, be addressed to Gloria Blue, Executive Secretary, TPSC, Attn: Section 1377 Comments, Office of the U.S. Trade Representative, and be submitted in 15 copies by noon on January 3, 2003. Reply Comments will also require 15 copies by noon on January 24, 2003.

In order to ensure the most timely and expeditious receipt and consideration of comments and reply comments, USTR has arranged to accept submissions in electronic format (e-mail). Comments should be submitted electronically to fr0056@ustr.gov. An automatic reply confirming receipt of e-mail submission will be sent. E-mail submissions in Microsoft Word or Corel WordPerfect are preferred. If a word processing application other than those two is used, please include in your submission the specific application used. For any document containing business confidential information submitted electronically, the file name of the business confidential version should begin with the characters “BC”, and the file name of the public version should begin with the character “P”. The “BC” and “P” should be followed by the name of the person or entity submitting the comments or reply comments. Interested persons who make submissions electronically should not provide separate cover letters; rather, information that might appear in a cover letter should be included in the submission itself. Similarly, to the extent possible, any attachments to the submission should be included in the same file as the submission itself, and not as separate files.

We strongly urge people to avail themselves of the electronic filing, if at all possible. If an e-mail submission is impossible, 15 copies may be submitted in accordance with the procedures listed below, and if not filed electronically must be delivered via private commercial courier, and arrangements must be made with Ms. Blue prior to delivery for their receipt. Ms. Blue should be contacted at (202) 395-3475.

All non-confidential comments and reply comments will be placed on the USTR website, http://www.ustr.gov and in the USTR Reading Room for inspection shortly after the filing deadline, except business confidential information exempt from public inspection in accordance with 15 CFR 2003.6. Confidential information submitted in accordance with 15 CFR 2003.6, must be clearly marked “BUSINESS CONFIDENTIAL” in a contrasting color ink at the top of each page on each of 15 copies, and must be accompanied by 15 copies of a nonconfidential summary of the confidential information. The nonconfidential summary will be placed in the USTR Public Reading Room. Since comments and reply comments will be posted on USTR's website, those persons not availing themselves of electronic filing must submit their 15 copies with a diskette. USTR will post the non-confidential version of the filing, therefore the non-confidential version must be clearly marked on the diskette.

An appointment to review the comments may be made by calling the USTR Reading Room at (202) 395-6186. The USTR Reading Room is open to the public from 9:30 a.m. to 12 noon, and from 1 p.m. to 4 p.m., Monday through Friday, and is located in Room 3 of 1724 F Street, NW.

Dated: November 25, 2002.
Peter B. Davidson,
General Counsel.

[FR Doc. 02-30311 Filed 11-27-02; 8:45 am]

BILLING CODE 3190-01-P